DEPARTMENT OF COMMERCE

National Oceanic and Atmospheric Administration

RIN 0648-XG92

Fisheries Off West Coast States and in the Western Pacific; Pacific Coast Groundfish Fishery; Application for an Exempted Fishing Permit (EFP)

AGENCY: National Marine Fisheries Service (NMFS), National Oceanic and Atmospheric Administration (NOAA), Commerce.

ACTION: Notice; receipt of EFP applications; intent to issue EFPs; request for comments.

SUMMARY: NMFS announces the receipt of two exempted fishing permit (EFP) applications, and the intent to issue EFPs for vessels participating in the EFP fisheries. The EFPs are necessary to allow activities that are otherwise prohibited by Federal regulations. The EFPs will be effective no earlier than May 1, 2008, and would expire no later than December 31, 2008, but could be terminated earlier under terms and conditions of the EFPs and other applicable laws.

DATES: Comments must be received no later than 5 p.m., local time on May 8, 2008.

ADDRESSES: You may submit comments, identified by 0648-XG92 by any one of the following methods:

• Fax: 206-526-6736, Attn: Gretchen Arentzen.

• Mail: D. Robert Lohn, Administrator, Northwest Region, NMFS, 7600 Sand Point Way NE, Seattle, WA 98115-0070, Attn: Gretchen Arentzen.

FOR FURTHER INFORMATION CONTACT: To request copies of the EFP applications, contact Gretchen Arentzen (Northwest Region, NMFS), phone: 206-526-6147, fax: 206-526-6736.

SUPPLEMENTARY INFORMATION: This action is authorized by the Magnuson-Stevens Fishery Conservation and Management Act provisions at 50 CFR 600.745, which states that EFPs may be used to authorize fishing activities that would otherwise be prohibited. At the November 2007 Pacific Fishery Management Council (Council) meeting in San Diego, California, NMFS and the Council received applications for two EFPs from: (1) The Nature Conservancy and their collaborators and (2) the Recreational Fishing Alliance and Golden Gate Fisherman's Association. An opportunity for public testimony was provided during the Council meeting. The Council recommended that NMFS issue the EFPs and forwarded the EFP applications to NMFS with the contingency that all applicants improve the data analysis and reporting requirements detailed in their applications. NMFS is worked with the applicants and participants who would be fishing under the EFPs to resolve retention, data analysis and monitoring issues affecting these EFPs prior to their final application for EFPs.

All EFPs, if issued, would require that all rockfish species are retained and that prohibited rockfish species must be surrendered to the State in which they are landed. All vessels participating under an EFP would be required to have a human observer on board during every trip conducted under the EFP.

Community Based Fishing Association EFP

The Nature Conservancy (TNC) submitted their final EFP application package to NMFS on February 14, 2008, along with their collaborators: City of Morro Bay Harbor Department; Port San Luis Commercial Fishermen's Association; Port San Luis Harbor District; California Department of Fish and Game; Morro Bay Commercial Fishermen's Organization, Inc.; and Environmental Defense. The primary purpose of the EFP is to test whether establishing a cooperatively managed, community based fishing association that employs commercial trawl permits to use longline, trap, pot, and hook-and-line gear off the Central California coast, under shared total catch amounts for target and bycatch species, can provide several important economic and environmental performance benefits. In addition, fishing under this EFP is expected to provide valuable information on how to structure a more cost-effective monitoring system that emphasizes individual accountability in a rationalized fishery and also on the costs of managing a rationalized fishery.

Since 2003, TNC and Environmental Defense have been working on various projects with participants in the bottom trawl industry along the Central Coast of California. In 2005, NMFS approved a plan to protect more than 130,000 square miles (336,698 square km) of marine waters off the West coast as essential fish habitat (EFH) for groundfish (71 FR 24601, May 11, 2006). The plan prohibits fishing methods that can cause long-term damage to the ocean floor, such as bottom trawling, within much of this area. At roughly the same time, TNC and Environmental Defense purchased several limited entry trawl permits (LEPs) from fishermen that operated trawl vessels along the central California coast. Under current federal regulations, bottom trawl LEPs cannot be converted to LEPs for harvesting groundfish with other gear types, such as hook and line and pot gears. This issue was identified by TNC when they purchased bottom trawl permits, and they have been exploring ways to mitigate the negative economic effects of the bottom trawl LEP purchases, while exploring a shift to other harvest mechanisms. The commercial fishery operating out of Morro Bay and Port San Luis has been much reduced in recent years, causing economic hardship on these fishing ports and the reduction of commercial fishing infrastructure, including processors and ice dealers.

In 2004, the Pacific Fishery Management Council (Council) began public scoping for development of a trawl rationalization and individual fishing quota (IFQ) program. As the Council moves forward with planning and analysis in drafting an Environmental Impact Statement, it would be useful to have practical information on how rationalized fisheries, fishing with individual quotas, would operate in the Pacific coast groundfish fishery. TNC developed a proposal for working with central California coast fishery participants to form a community based fishing association that would cooperatively manage fishing operations to maintain harvests within a total catch amount for target and incidental species, rather than under the cumulative trip limit structure in current Pacific coast groundfish regulations. Target species with total catch amounts include: sablefish, slope rockfish, longspine thornyhead, shortspine thornyhead, lingcod, chilipepper rockfish, splitnose rockfish, spiny dogfish, Dover sole, petrale sole, and other flatfish. Incidental catch species with total catch amounts include all of the overfished species: canary rockfish, yelloweye rockfish, widow rockfish, darkblotched rockfish, Pacific ocean perch, cowcod, and bocaccio. Catches would be closely monitored by TNC and NMFS to ensure total catch amounts are not exceeded.

If issued, this EFP would allow TNC to temporarily convert bottom trawl LEPs into longline, trap, pot, and hook and line gear LEPs. It would also allow TNC and designated vessels to land some groundfish species in excess of trip limits so that they may structure their fishing operation to better meet the needs of the community based fishing association. If the EFP is issued, no more than six vessels would participate in the EFP at any time. Vessels would be fishing between 36° N. lat. and 34°27.00′ N. lat. with longline, trap, pot and hook and line gear, and would be subject to the non-trawl Rockfish Conservation Area (RCA) in that region. All fish harvested under this EFP would be landed in Morro Bay or Port San Luis, California. Any groundfish species for which there is not a specified total catch amount would be subject to the open access trip limits applicable during the cumulative limit period in which fish are landed, and for the area between 36° N. lat. and 34°27.00′ N. lat. Without an EFP, these activities are otherwise prohibited by Federal regulations and TNC would not be able to test the usefulness of a community based fishing association and gear switching mechanisms to mitigate the impact of trawl effort reduction on communities and promote conservation of fishing resources.

Data collected during this project are expected to have a broader significance to the management of the Pacific coast groundfish fishery by providing insight into the challenges and successes of managing a community based fishing association under a rationalized fishery, as well as informing fishery monitoring provisions that would need to accompany an IFQ program for which individual accountability is a key component.

Recreational Chilipepper EFP

The Recreational Fishing Alliance (RFA) and the Golden Gate Fishermen's Association submitted their final EFP application package to NMFS on February 14, 2008. The primary purpose of the EFP is to do an area-based recreational fishing study to test if hook and line fishing gear can be used to access underutilized chilipepper rockfish seaward of the non-trawl RCA while keeping bycatch of overfished species low.

Because the Pacific coast groundfish fishery is a mixed stock fishery, catch of healthy stocks is constrained in order to reduce the catch of rebuilding groundfish species. Chilipepper rockfish are an underutilized species, and there has been increasing interest in recent years in developing fisheries to target chilipepper rockfish. This EFP would test development of a selective recreational target fishery in depths seaward of 150-fm (274-m) off California, between 40°10.00′ N. lat. and 34°27.00′ N. lat. (the North Central and South Central regions).

The RFA developed a proposal for a self-funding EFP fishery, where individual anglers would pay for an offshore chilipepper rockfish trip on a charter passenger fishing vessel that would operate throughout the year. Approximately 20 vessels would participate in this fishery, however only a few boats would fish at any one time in order to meet requirements for observer coverage. For every trip taken in the EFP fishery, each passenger would be subject to a 10 groundfish total bag limit for any groundfish species. Total catch of the target species, chilipepper rockfish, would be limited on each trip by the 10 fish bag limit per angler. Total catch of incidentally caught species, particularly overfished rockfish species, would be limited by total catch amounts for the entire EFP fishery. Incidental catch species with total catch amounts include all of the overfished species: canary rockfish, yelloweye rockfish, widow rockfish, darkblotched rockfish, Pacific ocean perch, cowcod, and bocaccio. Catches would be closely monitored by the RFA and NMFS to ensure total catch amounts for these overfished species are not exceeded.

If issued, this EFP would allow recreational fishing for chilipepper rockfish seaward of 150-fm (274-m) between 40°10.00′ N. lat. and 34°27.00′ N. lat. It would also passengers aboard the EFP charter fishing vessel to be exempt from recreational sub-bag limits for any groundfish species, such as bocaccio, and it would also allow passengers to retain and land overfished species, such as canary rockfish, yelloweye rockfish, and cowcod, because they would be required to retain all rockfish for catch accounting and conservation purposes. Without an EFP, these activities are otherwise prohibited by Federal regulations and the RFA would not be able to test a new market for offshore recreational fishing opportunities for underutilized species.

Data collected during this project are expected to have a broader significance to the management of the Pacific coast groundfish fishery by testing if a sustainable fishing opportunity could be provided in an offshore recreational fishery for chilipepper rockfish. Catch composition data and illustration of impacts to overfished species would be the primary measure of success for the recreational hook and line fishery that would be conducted under this EFP. If successful, and the EFP demonstrates that bycatch is avoided targeting chilipepper rockfish using hook and line gear seaward of 150-fm (274-m), it may be possible in the future that some of the central California recreational fishing effort can be shifted offshore, where there are fewer interactions with overfished canary rockfish.

Authority: 16 U.S.C. 1801 et seq.

Dated: April 2, 2008.
Emily H. Menashes
Acting Director, Office of Sustainable Fisheries, National Marine Fisheries Service.

[FR Doc. E8-7268 Filed 4-7-08; 8:45 am]

BILLING CODE 3510-22-S